DEPARTMENT OF THE INTERIOR

Bureau of Indian Affairs

[145A2100DD/AAK3000000/A0H501010/241A00]

Revision of Agency Information Collection for Indian Child Welfare Quarterly and Annual Report

AGENCY: Bureau of Indian Affairs, Interior.

ACTION: Notice of request for comments.

SUMMARY: In compliance with the Paperwork Reduction Act of 1995, the Bureau of Indian Affairs (BIA) is seeking comments on the renewal of Office of Management and Budget (OMB) approval for the collection of information for the Indian Child Welfare Quarterly and Annual Report, 25 CFR part 23. The information collection is currently authorized by OMB Control Number 1076-0131. This information collection expires November 30, 2014.

DATE: Submit comments on or before November 7, 2014.

ADDRESSES: You may submit comments on the information collection to Evangeline Campbell, Chief, Division of Human Services, Office of Indian Services, Bureau of Indian Affairs, 1849 C Street NW., MS-4513-MIB, Washington, DC 20240; facsimile: (202) 208-5113; email: Evangeline.Campbell@bia.gov.

FOR FURTHER INFORMATION CONTACT: Evangeline Campbell, (202) 513-7621.

SUPPLEMENTARY INFORMATION:

I. Abstract

The BIA is seeking to revise the information collection conducted under 25 CFR part 23, related to the Indian Child Welfare Act (ICWA). BIA collects information using a consolidated caseload form, which tribal ICWA program directors fill out. BIA uses the information to determine the extent of service needs in local Indian communities, assess ICWA program effectiveness, and provide date for the annual program budget justification. The aggregated report is not considered confidential. A response is required to obtain and/or retain a benefit.

The revision includes changes to the existing form, reducing which is now, Part A—Indian Child Welfare Act (ICWA) Data, and adds a new section, Part B—Tribal Child Abuse Neglect Data. Part A—ICWA Data has been simplified, including fewer categories that were no longer considered useful for planning purposes, based on feedback received from BIA Regional staff. Part B—Tribal Child Abuse and Neglect Data is a new section. Part B only applies to tribes that operate child protection programs.

A copy of the forms will be made available on the Web site at http://www.bia.gov/WhoWeAre/BIA/OIS/HumanServices/index.htm for review and comment. We estimate the hourly burden for Part A—ICWA Data will be reduced, from 30 minutes to 15 minutes, and when applicable, Part B—Tribal Child Abuse and Neglect Data is estimated to take approximately 15 minutes to complete.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0131.

Title: Indian Child Welfare Quarterly and Annual Report, 25 CFR part 23.

Brief Description of Collection: The BIA is seeking to revise the information collection conducted under 25 CFR part 23, related to the Indian Child Welfare Act (ICWA). The revisions includes changing the name of the collection (previously identified as Indian Child Welfare Assistance Report, 25 CFR part 83) to “Indian Child Welfare Quarterly and Annual Report.” BIA simplified the previous form, which is now Part A—Indian Child Welfare Act (ICWA) Data. The changes includes few categories that are no longer considered useful for planning purposes, based on feedback received from BIA regional staff. In addition, a new form has been added, Part B—Tribal Child Abuse and Neglect Data. This form must completed by tribes that operate child protection programs.

Submission of this information by Indian tribes allows BIA to consolidate and review selected data on Indian child welfare cases. The data is useful on a local level, to the tribes and tribal entities that collect it, for case management purposes. The data are useful on a nationwide basis for planning and budget purposes. Response is required to obtain or retain a benefit.

Type of Review: Revision of currently approved collection.

Respondents: Indian tribes or tribal entities that are operating programs for Indian tribes.

Number of Respondents: approximately 536 per year, on average, for Part A—ICWA Data; approximately 200 per year, on average, for Part B—Tribal Child Abuse Neglect Data.

Frequency of Response: four times per year for the Part A—ICWA Data; if applicable, four times per year for Part B—Tribal Child Abuse Neglect Data.

Estimated Time per Response: approximately 20 minutes for Part A—ICWA Data; approximately 20 minutes for Part B—Tribal Child Abuse and Neglect Data.

Estimated Total Annual Hour Burden: 736 hours, on average.

Estimated Total Annual Non-Hour Dollar Cost: $0.

Dated: August 27, 2014.
Christine Cho,
Acting Deputy Director for Information Resources.

[FR Doc. 2014-21269 Filed 9-5-14; 8:45 am]

BILLING CODE 4310-4J-P